DEPARTMENT OF THE TREASURY

Internal Revenue Service

26 CFR Part 1

[REG-101826-11]

RIN 1545-BK04

New Markets Tax Credit Non-Real Estate Investments; Correction

AGENCY: Internal Revenue Service (IRS), Treasury.

ACTION: Correction to a notice of proposed rulemaking.

SUMMARY: This document contains corrections to a notice of proposed rulemaking (REG-101826-11) that was published in the Federal Register on Tuesday, June 7, 2011 (76 FR 32882) modifying the new markets tax credit program to facilitate and encourage investments in non-real estate businesses in low-income communities.

FOR FURTHER INFORMATION CONTACT: Julie Hanlon-Bolton, (202) 622-3040 (not a toll-free number).

SUPPLEMENTARY INFORMATION:

Background

The correction notice that is the subject of this document is under section 45D of the Internal Revenue Code.

Need for Correction

As published, a notice of proposed rulemaking (REG-101826-11) contains errors that may prove to be misleading and are in need of clarification.

Correction of Publication

Accordingly, the publication of the notice of proposed rulemaking (REG-101826-11), which was the subject of FR Doc. 2011-13978, is corrected as follows:

1. On page 32883, column 2, in the preamble, under the paragraph heading “General Overview”, second paragraph of the column, fourth line, the language “nonprofit corporation) or partnership if” is corrected to read “nonprofit corporation) or partnership, if”.

2. On page 32883, column 3, in the preamble, under the paragraph heading “Explanation of Provisions”, first paragraph of the column, second line, the language “amortizing loans) re-invest those” is corrected to read “amortizing loans) reinvest those”.

LaNita Van Dyke,
Chief, Publications and Regulations Branch, Legal Processing Division, Associate Chief Counsel (Procedure and Administration).

[FR Doc. 2011-16825 Filed 7-5-11; 8:45 am]

BILLING CODE 4830-01-P